DEPARTMENT OF COMMERCE

National Oceanic and Atmospheric Administration

[RTID 0648-XD173]

Request for Information; Advancing Equity and Environmental Justice in the Southeast Through the Conservation and Management of Living Marine Resources

AGENCY: National Marine Fisheries Service (NMFS), National Oceanic and Atmospheric Administration (NOAA), Commerce.

ACTION: Notice; request for information.

SUMMARY: In May 2023, NMFS finalized its first-ever national Equity and Environmental Justice Strategy. The national strategy describes the path the agency will take to incorporate equity and environmental justice into the vital services we provide to all communities. Through this Request for Information, we are seeking stakeholder input to inform the operationalization of the national strategy in the Southeast Region. The public input we receive in response to the questions listed in the SUPPLEMENTARY INFORMATION section of this document will inform the development of a Southeast Equity and Environmental Justice Implementation Plan that is specific and responsive to the needs of underserved communities in the U.S. Caribbean, South Atlantic, and Gulf of Mexico.

DATES: Interested persons are invited to provide input in response to this Request for Information through September 30, 2023. Late-filed input will be considered to the extent practicable.

Verbal input will be accepted during a webinar-based listening session to be conducted in English, Spanish, and Vietnamese on Tuesday, August 29, 2023, from 6 p.m. to 8 p.m. ET.

ADDRESSES: Interested persons are invited to provide input using one of the following methods:

• Electronic Submission: Submit all electronic public comments via the Federal e-Rulemaking Portal. Go to https://www.regulations.gov and enter NOAA-NMFS-2023-0092 in the Search box. Click on the “Comment” icon, complete the required fields, and enter or attach your comments.

• Verbal submission: NMFS will accept verbal input during a webinar-based listening session from 6 p.m. to 8 p.m. ET on Tuesday, August 29, 2023. The webinar will be conducted in English, Spanish, and Vietnamese. Information about how to access the webinar will be available at https://www.fisheries.noaa.gov/southeast/about-us/southeast-equity-and-environmental-justice-implementation-plan. The transcript of the webinar will be posted to https://www.fisheries.noaa.gov/southeast/about-us/southeast-equity-and-environmental-justice-implementation-plan after the listening session has been completed.

Recorded presentations providing more information on this public comment opportunity will be made available at https://www.fisheries.noaa.gov/southeast/about-us/southeast-equity-and-environmental-justice-implementation-plan in English, Spanish, and Vietnamese for interested persons to listen at their convenience prior to submitting input via the Federal e-Rulemaking Portal or the webinar-based listening session. If you are unable to provide electronic written comments or participate in the webinar-based listening session, please contact Brent Stoffle at brent.stoffle@noaa.gov or (305) 951-1212 for alternative submission methods.

FOR FURTHER INFORMATION CONTACT: Heather Blough, heather.blough@noaa.gov, (727) 304-0131.

SUPPLEMENTARY INFORMATION:

I. Background

NMFS is responsible for managing the nation's living marine resources. We work to make fisheries sustainable and productive, provide safe seafood to consumers, conserve threatened and endangered species and other protected resources, and maintain healthy ecosystems. The work that we do affects people in underserved communities who depend on these resources for their environmental, economic, social, and cultural well-being. We recognize that these communities experience barriers to accessing our services and that the services they access may not effectively meet their needs.

On May 22, 2023, NMFS finalized a national Equity and Environmental Justice Strategy (https://www.fisheries.noaa.gov/feature-story/noaa-fisheries-releases-final-equity-and-environmental-justice-strategy) designed to break down key barriers impeding the equitable delivery of services and opportunities derived from the work that we do. The national strategy describes the path we will take to incorporate equity and environmental justice into the vital services we provide to all communities.

Our goals under the strategy are to: (1) Prioritize identification, equitable treatment, and meaningful involvement of underserved communities; (2) Provide equitable delivery of services; and (3) Prioritize equity and environmental justice in our mandated and mission work with demonstrable progress.

The strategy outlines six objectives to accomplish those goals: (1) Provide an empowering environment within NMFS to support multiple approaches to equity and environmental justice; (2) Ensure that our policies promote equal opportunities for all and do not create unintended inequities or unequal burdens for underserved communities; (3) Identify underserved communities and their needs, conduct collaborative research, and assess impacts of management decisions; (4) Build relationships with underserved communities to better understand their engagement preferences, and improve information sharing with all communities; (5) Distribute benefits equitably among communities by increasing the access to opportunities for underserved communities; and (6) Enable the meaningful involvement of underserved communities in decision-making processes.

Together, these goals and objectives are intended to create the capacity and accountability processes necessary to effectively embed equity and environmental justice within our agency and the work that we do.

Additional information on the national strategy, including our working definitions of equity, environmental justice, and underserved communities, is available on our website at: https://www.fisheries.noaa.gov/southeast/about-us/southeast-equity-and-environmental-justice-implementation-plan.

II. Purpose of This Request for Information

NMFS recognizes that we have much work to do to effectively embed equity and environmental justice into our day-to-day efforts, and we have incorporated input from communities into our national Equity and Environmental Justice Strategy (https://www.fisheries.noaa.gov/feature-story/noaa-fisheries-releases-final-equity-and-environmental-justice-strategy) to guide that work. The purpose of this Request for Information is to solicit input on ways we can operationalize the national strategy in the Southeast Region by identifying specific actions and related performance metrics we will take to advance each of our six national equity and environmental justice objectives in the U.S. Caribbean, South Atlantic, and Gulf of Mexico. We will supplement the information we receive in response to this Request for Information with information we obtain through a series of focus group meetings we are conducting with underserved community members and liaisons throughout the region.

III. Specific Information Requested To Inform Development of the Southeast Region Equity and Environmental Justice Implementation Plan

Through this Request for Information, NMFS seeks written public input to inform the operationalization of our national Equity and Environmental Justice Strategy (https://www.fisheries.noaa.gov/feature-story/noaa-fisheries-releases-final-equity-and-environmental-justice-strategy) in the Southeast Region. The input we receive in response to this request will help us to identify specific action items and related performance metrics to advance each of the six national equity and environmental justice objectives in the U.S. Caribbean, South Atlantic, and Gulf of Mexico.

When providing input, please specify if you are providing general feedback on how we can eliminate barriers or better serve underserved communities in the region, or responding to one or more of the specific objective(s) and question number(s) below:

Objective 1. Provide an empowering environment within NMFS to support multiple equity and environmental justice approaches.

1. What data and resources does NMFS need to identify the underserved communities impacted by our work and evaluate the success of our equity and environmental justice efforts?

2. What accountability structures does NMFS need to stay focused on our equity and environmental justice goals and build trust with underserved communities?

Objective 2. Ensure that our policies promote equal opportunities for all and do not create unintended inequities or unequal burdens for underserved communities.

1. How can NMFS better include equity for underserved communities in policies and plans?

2. How can existing policies and procedures be refined or revised to achieve more equitable outcomes?

3. How can NMFS design or revise policies and procedures in a way that ensures they are helpful and clear to underserved communities?

4. How can NMFS further incorporate into its policies and procedures relevant language, customs, and indigenous knowledge, consistent with statutory requirements (e.g., best scientific information available standard under the Magnuson-Stevens Fishery Conservation and Management Act)?

Objective 3. Identify underserved communities and their needs, conduct collaborative research, and assess impacts of management decisions.

1. What research do we need to identify underserved communities and assess their needs?

2. How can NMFS better engage with underserved communities to identify, co-develop, and co-produce place-based research and monitoring priorities and promote opportunities for citizen science?

3. How can we reduce bias in the prioritization of NMFS' research to better serve underserved communities?

4. How can NMFS expand involvement of members of underserved communities in research and monitoring projects while ensuring protection of indigenous knowledge?

5. How can NMFS more equitably allocate research and monitoring resources to identify and characterize underserved communities, understand their needs, and use findings to effectively guide management decisions that affect them?

6. How can NMFS more equitably allocate research and monitoring resources to fisheries, habitat, and protected species science that directly impacts underserved communities?

7. How can NMFS improve our understanding of the impact of our regulatory actions on underserved communities?

8. What are best practices for working with communities to integrate indigenous knowledge into research structure, data collection, and data reporting?

9. How can NMFS better share research and monitoring results in plain language?

Objective 4. Build relationships with underserved communities to better understand their engagement preferences, and improve information sharing with all communities.

1. Are the various communication platforms and outreach activities used by NMFS effectively reaching underserved communities? Are there other preferred methods of communication?

2. How can NMFS build relationships with underserved communities that allow for two-way communication and trust?

3. What training and resources do staff need to expand NMFS' outreach and communication in underserved communities?

4. How can NMFS make its communications more accessible and understandable to a diverse audience, including underserved communities?

Objective 5. Distribute benefits equitably among communities by increasing the access to opportunities for underserved communities.

1. What barriers do underserved communities face in accessing benefits managed by NMFS?

2. Do NMFS' benefits (such as funding, fishery allocations, permits, opportunities, services, and environmental protection and restoration) equitably reach or benefit underserved communities? Consistent with applicable legal requirements, how can we expand the equity in our delivery of these benefits?

3. What accountability structures and processes are needed to ensure equitable delivery of benefits, such as data collection, on benefit recipients and analysis of that data?

4. How can we better serve underserved communities with data and tools NMFS provides to the public?

Objective 6. Enable the meaningful involvement of underserved communities in decision-making processes.

1. How can NMFS better account for the needs of underserved communities in decision-making?

2. What accountability processes and structures are needed for NMFS to assess if underserved community needs are adequately accounted for in decision-making?

3. Is the information NMFS uses to support decision-making accessible to underserved communities?

4. How can underserved communities have equitable access to participate in public meetings?

5. How can NMFS ensure that public meetings are inclusive, safe, and welcoming?

6. How can NMFS facilitate access and involvement of underserved communities during the decision-making process?

7. How can NMFS increase representation of underserved communities on Regional Fishery Management Councils and advisory bodies, including international advisory bodies?

Dated: July 18, 2023.
Kimberly Damon-Randall,
Acting Deputy Assistant Administrator for Regulatory Programs, National Marine Fisheries Service.

[FR Doc. 2023-15546 Filed 7-20-23; 8:45 am]

BILLING CODE 3510-22-P